SECURITIES AND EXCHANGE COMMISSION

[File No. 500-1]

In the Matter of Euro Solar Parks, Inc.; Order of Suspension of Trading

March 28, 2011.

It appears to the Securities and Exchange Commission that there is a lack of current and accurate information concerning the securities of Euro Solar Parks, Inc. (“Euro Solar”) because of possible manipulative conduct occurring in the market for the company's stock. Euro Solar is quoted on the OTC Bulletin Board and OTC Link under the ticker symbol ESLP.

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 28, 2011, through 11:59 p.m. EDT on April 8, 2011.

By the Commission.
Elizabeth M. Murphy,
Secretary.

[FR Doc. 2011-7572 Filed 3-28-11; 4:15 pm]

BILLING CODE 8011-01-P